Title 3—

The President

Proclamation 7941 of October 7, 2005

Fire Prevention Week, 2005

By the President of the United States of America

A Proclamation

Each year, fires kill or injure thousands of Americans and destroy or damage billions of dollars worth of property. Many of these fires might have been prevented by taking appropriate precautions and following safety guidelines. During Fire Prevention Week, we highlight the need to prevent and prepare for fires, and we raise awareness of fire safety. We also honor our Nation's brave firefighters.

Each year, the National Fire Protection Association and the Department of Homeland Security's United States Fire Administration raise awareness during Fire Prevention Week. This year's theme is “Use Candles with Care.” Although the number of home fires has declined in recent years, the number of fires caused by candles has risen dramatically. Fortunately, the risk of candle fires can be lessened by following a few basic guidelines, including never leaving candles unattended, keeping them away from flammable items, and always keeping them out of reach of children.

While many fires can be prevented by following precautions, families should still be prepared for the possibility of a fire by having working smoke alarms on every level of their homes. Families should also have a fire escape plan in place to help get everyone out of the home safely in case of an emergency.

When fires occur, Americans depend on our courageous firefighters to be first on the scene and to save lives. Each year, more than 100 of our country's firefighters die in the line of duty. Americans are grateful for the brave men and women who put themselves in harm's way to rescue and protect their fellow citizens. During Fire Prevention Week, we recognize these heroes and honor their sacrifice.

NOW, THEREFORE, I, GEORGE W. BUSH, President of the United States of America, by virtue of the authority vested in me by the Constitution and laws of the United States, do hereby proclaim October 9 through October 15, 2005, as Fire Prevention Week. On Sunday, October 9, 2005, in accordance with Public Law 107-51, the flag of the United States will be flown at half-staff on all Federal office buildings in honor of the National Fallen Firefighters Memorial Service. I invite the people of the United States to participate in this observance by flying our Nation's flag over their homes at half-staff on this day, to mark this week with appropriate programs and activities, and to renew efforts throughout the year to prevent fires and their tragic consequences.

IN WITNESS WHEREOF, I have hereunto set my hand this seventh day of October, in the year of our Lord two thousand five, and of the Independence of the United States of America the two hundred and thirtieth.

B

[FR Doc. 05-20655

Filed 10-12-05; 9:18 am]

Billing code 3195-01-P